ENVIRONMENTAL PROTECTION AGENCY

[FRL-8947-9; EPA-HQ-OEI-2008-0791]

Type of Action: Amendment

AGENCY: Environmental Protection Agency (EPA).

ACTION: Notice.

SUMMARY: Pursuant to the provisions of the Privacy Act of 1974 (5 U.S.C. 552a), EPA's Office of Pollution Prevention and Toxics (OPPT) is providing notice of its proposal to amend an existing system of records (SOR) by changing the title of “Lead-Based Paint System of Records” (LPSOR) to the “Federal Lead-based Paint Program System of Records” (FLPPSOR). FLPPSOR stores information in both electronic and hard-copy formats and contains information about individuals who: have applied for certification to conduct lead-based paint and renovation activities; are students taking classes in lead-based paint and renovation activities; or have been identified to provide training in lead-based paint and renovation activities. On April 22, 2008, EPA published the Renovation, Repair, and Painting Program rule in the Federal Register with an effective date of June 23, 2008. The Renovation, Repair, and Painting rule establishes requirements for training renovators and dust-sampling technicians; certifying renovators, dust-sampling technicians and renovation firms; accrediting providers of renovator and dust-sampling technician training; and renovation work practices. FLPPSOR will contain information about individuals who are certified inspectors, supervisors, risk assessors, project designers, abatement workers, renovators and dust-sampling technicians. EPA administers the certification and accreditation programs in States, Tribal areas, and territories that do not have EPA's authorization to independently administer such programs. EPA is no longer requiring individuals to provide their social security numbers on application forms for certification.

DATES: Persons wishing to comment on this system of records notice amendment must do so by September 30, 2009.

ADDRESSES: Submit your comments, identified by Docket ID No. EPA-HQ-2008-0791, by one of the following methods:

• http://www.regulations.gov.: Follow the online instructions for submitting comments.

• E-mail: oei.docket@epa.gov.

Fax: 202-566-1752.

• Mail: OEI Docket, Environmental Protection Agency, Mail code: 2822T, 1200 Pennsylvania Ave., NW., Washington, DC 20460.

• Hand Delivery: OEI Docket, EPA/DC, EPA West Building, Room 3334, 1301 Constitution Ave., NW., Washington, DC. Such deliveries are only accepted during the docket's normal hours of operation, and special arrangements should be made for deliveries of boxed information.

Instructions: Direct your comments to Docket ID No. EPA-HQ-2008-0791. EPA's policy is that all comments received will be included in the public docket without change and may be made available online at http://www.regulations.gov, including any personal information provided, unless the comment includes information claimed to be Confidential Business Information (CBI) or other information for which disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center home page at http://www.epa.gov/epahome/dockets.htm.

Docket: All documents in the docket are listed in the http://www.regulations.gov index. Although listed in the index, some information is not publicly available (e.g., CBI or other information for which disclosure is restricted by statute). Certain other material, such as copyrighted material, will be publicly available only in hard copy. Publicly available docket materials are available either electronically in http://www.regulations.gov or in hard copy at the OEI Docket, EPA/DC, EPA West Building, Room 3334, 1301 Constitution Ave., NW., Washington, DC 20004. The Public Reading Room is open from 8:30 a.m. to 4:30 p.m., Monday through Friday excluding legal holidays. The telephone number for the Public Reading Room is (202) 566-1744, and the telephone number for the OEI Docket is (202) 566-1745.

FOR FURTHER INFORMATION CONTACT: Robert Wright, National Program Chemicals Division (7404T), Office of Pollution Prevention and Toxics, Environmental Protection Agency, 1200 Pennsylvania Ave., NW., Washington, DC 20460-0001; telephone number: (202) 566-1975; e-mail address: wright.robert@epa.gov.

SUPPLEMENTARY INFORMATION:

I. General Information

FLPPSOR contains information about individuals who: have applied for certification to perform lead-based paint and renovation activities; take classes on how to perform lead-based paint and renovation activities; and/or are identified on behalf of firms to provide training in lead-based paint and renovation activities. In addition, FLPPSOR will contain information about individuals who: are certified renovators or dust sampling technicians; are taking renovator or dust-sampling technician training classes; or have been identified by those firms that are accredited by EPA to provide training for renovation or dust-sampling technician courses. The EPA Federal Lead-Based Paint Program system of records does not duplicate any existing system of records. The system handles Privacy Act protected information in the same manner regardless of whether the information is contained in electronic or hard-copy form. Access to the system is restricted to authorized users and will be maintained in a secure, password-protected computer system, in secure areas and buildings with physical access controls and environmental controls. The system is maintained by EPA's Office of Pollution Prevention and Toxics.

Dated: July 25, 2009.
Linda A. Travers,
Acting Assistant Administrator and Chief Information Officer.

EPA-54

System Name:

Federal Lead-Based Paint Program System of Records (FLPPSOR).

System Location:

Records maintained in FLPPSOR are stored in electronic and hard-copy formats at Research Triangle Park (RTP), NC, EPA regional offices and the Federal program contractor's office. In addition:

(1) The main system is located at EPA's National Computer Center (NCC) in Research Triangle Park (RTP), North Carolina. This database contains information entered from some of the primary sources listed below under “Categories of Records in the System” (submitted form and notifications).

(2) Hard-copy files are located in EPA regional offices and the facility operated by EPA's Federal program contractor's office. These records include the original or photocopied paper submissions (including supplementary information) provided to the Agency. Though similar in file content, the hard-copy collections maintained by the EPA contractor may differ from those maintained by the applicable regional office.

(3) EPA regional offices have developed electronic systems for their local uses. These electronic records are maintained separate from the main central server at RTP and are used solely by the regional offices.

Categories of Individuals Covered by the System:

Individuals covered by the system include those who have applied for certification to perform lead-based paint and renovation activities in the following disciplines: inspectors, supervisors, risk assessors, project designers, abatement workers, renovators, and dust-sampling technicians. Certified inspectors, supervisors, risk assessors, project designers, and abatement workers may be listed on EPA's Lead home page in the future. All renovators and dust-sampling technicians will be listed on EPA's Lead home page.

Categories of Records in the System:

FLPPSOR contains individuals' names, home addresses, telephone numbers, dates of birth, work-related information, signatures, course test scores, submitted fees, and certificate numbers.

Authority for Maintenance of the System:

40 CFR Part 745 Lead—Requirements for Lead-Based Paint Activities in Target Housing and Child-Occupied Facilities and 40 CFR Part 745 Lead—Renovation, Repair, and Painting Program.

Purpose(s):

The purpose of FLPPSOR is to maintain information submitted to the Agency through various documents under the Federal Lead-Based Paint Program and the Federal Lead-Based Paint Renovation, Repair and Painting Program. These records include application forms, notification forms, and various support documents. FLPPSOR supports activities integral to the program (i.e., issuing certificates and badges, analyzing information, generating letters and reports, and providing information to allow for executing various enforcement actions).

Routine Uses of Records Maintained in the System and Their Purpose; Categories of Users:

General routine uses are as follows: A, B, C, E, F, G, H, I, K, and L. (A detailed description of these routine uses can be found in the Agency's System of Records Web site at http://www.epa.gov/privacy/notice/general.htm). In addition, the following routine uses may also apply:

Program Disclosure/User Categories:

Consistent with applicable provisions of the Privacy Act and the Freedom of Information Act (FOIA), the Agency may disclose information from FLPPSOR to Federal, State, or local agencies, present and former employers and business and personal associates, and hearing officials, as a given situation might require, for purposes including the following:

(1) To verify the identity of the individual;

(2) To enforce the conditions or terms of the Agency's Lead-Based Paint Program and Lead-Based Paint Renovation, Repair and Painting Program regulations;

(3) To investigate possible fraud by, for example, applicants and users, and verify compliance with Agency Lead-Based Paint Program and Lead-Based Paint Renovation, Repair and Painting Program regulations;

(4) To prepare for litigation or to litigate fee collections and reporting enforcement matters;

(5) To initiate a limitation, suspension, and termination (LS&T) or debarment action;

(6) To investigate complaints, update files, and correct errors;

(7) To prepare for alternative dispute resolutions (ADR) in any of the cases described in paragraphs (2), (3), and (4);

(8) To engage in audits or other internal matters within EPA;

(9) To contact certified individuals and applicants in the event of a system modification; or

(10) To respond to a change to FLPPSOR, as in the case of a modification, revocation, or termination of a user's access privileges.

Policies and Practices for Storing, Retrieving, Safeguarding Access, Retaining, and Disposing of Records in the System:

FLPPSOR maintains records on individuals derived from a variety of sources relating to the undertaking of lead-based paint activities; lead-based paint renovation, repair and painting activities; and training. These record sources include the following forms submitted to EPA: EPA Form 8500-27, “Application and Instructions for Firms Applying for Certification of Lead-Based Paint and Renovation Activities;” EPA Form 8500-25, “Application and Instructions for Training Providers Applying for Accreditation of Lead-Based Paint Activity and Renovation Training Programs,” and EPA Form 8500-28, “Application and Instructions for Individuals Applying for Certification to Conduct Lead-Based Paint Activities.” The information derived from these forms concerns individuals, firms and training providers who have applied for certification or accreditation in lead-based paint or renovation activities. Two record sources include information derived from required notifications submitted to EPA pursuant to 40 CFR Part 745. The first of these latter record sources requires firms certified under 40 CFR 745.226 to provide notification to the Agency prior to conducting lead-based paint abatement activities. The second of these record sources requires training programs accredited under 40 CFR 745.225 to provide notification to the Agency prior to and then following conducting lead-based paint abatement and renovation, repair and painting activities training courses. The data derived from these notifications include information on individuals who supervise lead-based paint abatement and prepare the notification to EPA prior to doing so or serve as instructors for managing other instructors or attending training as students of these accredited programs. Finally, other record sources of information stored in the system may include supplementary documents obtained by regional offices in the application approval process.

• Storage: Records maintained under the FLPPSOR are stored in different formats and in several locations. Each of these record collections, which together comprise the FLPPSOR, must adhere to the requirements of the Privacy Act and are subject to the rules and restrictions for disclosure of information specified under the Freedom of Information Act.

• Retrievability: Records may be retrieved by an individual's name, application ID number, applicant ID number, or program activity.

• Safeguards: Physical access to the system housed in the facility at RTP is controlled by a computerized badge-reading system, with security patrols during non-business hours. All interactions between the system and the authorized individual users are recorded through use of a card reader and tracking database. Paper records stored at EPA's Federal program contractor are protected by computerized badge-reading security systems, with files maintained in locked file drawers. Records stored at EPA regional offices are secured through building security protocols and computerized badge-reading systems.

• Retention and Disposal: EPA will retain and dispose of these records in accordance with the EPA Records Schedule 089 and the National Archives and Records Administration General Records Schedule 23/8. Application records maintained in the system are deleted/destroyed two years after the date of the last entry.

System Manager's Address and Telephone Number:

Maria J. Doa, Ph.D., Director, National Program Chemicals Division, USEPA, Office of Pollution Prevention and Toxics, (7404T), 1200 Pennsylvania Ave., NW., Washington, DC 20460, (202) 566-0500.

Notification Procedure:

Requests to determine whether this system of records contains a record pertaining to you must be sent to the Agency's Freedom of Information Office. The address is: U.S. Environmental Protection Agency; 1200 Pennsylvania Ave., NW., Room 6416 West; Washington, DC 20460; (202) 566-1667; E-mail: (hq.foia@epa.gov); Attn: Privacy Act Officer.

Record Access Procedures:

Requesters seeking access to this system will be required to provide adequate identification (e.g., driver's license, military identification card, employee badge or identification card) and, if necessary, proof of authority. Additional identity verification procedures may be required as warranted. Requests must meet the requirements of EPA regulations at 40 CFR Part 16.

Contesting Records Procedures:

If you wish to contest a record in the system of records, contact the Agency's Freedom of Information Office as described under “Notification Procedure” listed above.

Record Source Categories:

Information is obtained from individuals, firms, and training providers who are certified and/or accredited to perform lead-based paint and renovation activities.

System Exempted from Certain Provisions of the Act:

None.

[FR Doc. E9-20209 Filed 8-20-09; 8:45 am]

BILLING CODE 6560-50-P